DEPARTMENT OF TRANSPORTATION

Federal Aviation Administration

14 CFR Part 39

[Docket No. FAA-2005-22511; Directorate Identifier 2005-NM-120-AD]

RIN 2120-AA64

Airworthiness Directives; Gulfstream Aerospace LP Model Gulfstream 100 Airplanes; and Model Astra SPX, and 1125 Westwind Astra Airplanes

AGENCY: Federal Aviation Administration (FAA), Department of Transportation (DOT).

ACTION: Notice of proposed rulemaking (NPRM).

SUMMARY: The FAA proposes to adopt a new airworthiness directive (AD) for certain Gulfstream Aerospace LP Model Gulfstream 100 airplanes; and Model Astra SPX, and 1125 Westwind Astra airplanes. This proposed AD would require a one-time inspection for discrepancies of the nose wheel steering assembly of the landing gear, installing a warning placard on each nose landing gear door, and corrective action if necessary. This proposed AD is prompted by reports of failure of the steering brackets of the nose wheel steering assembly, and in one incident, loss of steering control. We are proposing this AD to find and fix these discrepancies, which could result in loss of steering control and consequent reduced controllability of the airplane.

DATES: We must receive comments on this proposed AD by October 26, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW, Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Gulfstream Aerospace Corporation, P.O. Box 2206, Mail Station D-25, Savannah, Georgia 31402-2206.

You can examine the contents of this AD docket on the Internet at http://dms.dot.gov, or in person at the Docket Management Facility, U.S. Department of Transportation, 400 Seventh Street SW., room PL-401, on the plaza level of the Nassif Building, Washington, DC. This docket number is FAA-2005-22511; the directorate identifier for this docket is 2005-NM-120-AD.

FOR FURTHER INFORMATION CONTACT: Mike Borfitz, Aerospace Engineer, International Branch, ANM-116, FAA, Transport Airplane Directorate, 1601 Lind Avenue, SW., Renton, Washington 98055-4056; telephone (425) 227-2677; fax (425) 227-1149.

SUPPLEMENTARY INFORMATION:

Comments Invited

We invite you to submit any relevant written data, views, or arguments regarding this proposed AD. Send your comments to an address listed under ADDRESSES. Include “Docket No. FAA-2005-22511; Directorate Identifier 2005-NM-120-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket website, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Civil Aviation Administration of Israel (CAAI), which is the airworthiness authority for Israel, notified us that an unsafe condition may exist on certain Gulfstream Aerospace LP Model Gulfstream 100 airplanes; and Model Astra SPX, and 1125 Westwind Astra series airplanes. The CAAI advises that three operators reported failure of the steering brackets of the nose wheel steering assembly of the landing gear, and in one incident, loss of steering control. Evaluation of the steering brackets revealed that the probable cause of these failures is excessive torsional forces applied to the steering assembly, which can be caused during towing operation of the airplane with the torque links connected. Subsequent to the original reports, similar conditions have been found on other airplanes. This condition, if not corrected, could result in loss of steering control and consequent reduced controllability of the airplane.

Relevant Service Information

Gulfstream Aerospace LP has issued Alert Service Bulletin 100-32A-275, Revision 1, dated December 24, 2003. The service bulletin describes procedures for a nondestructive test inspection for discrepancies of the nose wheel steering assembly of the landing gear, and corrective action if necessary. The discrepancies include cracking of the upper and lower steering brackets and lack of rotation of the centering spring. The corrective action involves replacing both the upper and lower brackets if either bracket is cracked; applying silicone grease to the centering spring mounting shaft and steering bracket mounting hole; and torqueing the nut and verifying free rotation of the centering spring. If no cracking is found, free rotation of the centering spring must be verified before reconnecting the spring; if the centering spring does not rotate, the nut must be backed off until free rotation is obtained.

Gulfstream Aerospace LP has also issued Service Bulletin 1125-11-181, Revision 1, dated December 24, 2003. The service bulletin describes procedures for installing a warning placard on the outside of each nose landing gear door that cautions ground handling crews to use proper towing methods.

Accomplishing the actions specified in the service information is intended to adequately address the unsafe condition.

The CAAI mandated the service information and issued Israeli airworthiness directives 32-03-10-05 R1, dated February 8, 2004; and 32-03-12-09, dated February 5, 2004, to ensure the continued airworthiness of these airplanes in Israel.

FAA's Determination and Requirements of the Proposed AD

These airplane models are manufactured in Israel and are type certificated for operation in the United States under the provisions of section 21.29 of the Federal Aviation Regulations (14 CFR 21.29) and the applicable bilateral airworthiness agreement. Pursuant to this bilateral airworthiness agreement, the CAAI has kept the FAA informed of the situation described above. We have examined the CAAI's findings, evaluated all pertinent information, and determined that we need to issue an AD for products of this type design that are certificated for operation in the United States.

Therefore, we are proposing this AD, which would require accomplishing the actions specified in the service information described previously, except as discussed under “Differences Among the Proposed AD, Service Bulletins, and Israeli Airworthiness Directives.”

Differences Among the Proposed AD, Service Bulletins, and Israeli Airworthiness Directives

The applicability of Israeli airworthiness directive 32-03-10-05 R1 identifies Model Gulfstream 100 airplanes; Model Astra SPX and 1125 Westwind Astra airplanes with serial numbers 004, 011 through 147 inclusive, and 149. That airworthiness directive requires a one-time inspection for discrepancies of the nose wheel steering assembly of the landing gear. The applicability of Israeli airworthiness directive 32-03-12-09 identifies Model Astra SPX and 1125 Westwind Astra with serial numbers 004 through 110 inclusive. That airworthiness directive requires installation of warning placards. We have expanded the applicability in this proposed AD to require that all those airplanes accomplish all the required actions. This requirement would ensure that the actions specified in both of the Israeli airworthiness directives, and required by this proposed AD, are accomplished on all affected airplanes. This difference has been coordinated with the CAAI.

Operators should note that, although the Accomplishment Instructions of the referenced service bulletins describe procedures for submitting a service reply card, this proposed AD would not require that action. We do not need this information from operators.

Costs of Compliance

This proposed AD would affect about 106 airplanes of U.S. registry. The proposed inspection would take about 8 work hours per airplane, at an average labor rate of $65 per work hour. Based on these figures, the estimated cost of the proposed AD for U.S. operators is $55,120, or $520 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Gulfstream Aerospace LP (Formerly Israel Aircraft Industries, Ltd.): Docket No. FAA-2005-22511; Directorate Identifier 2005-NM-120-AD.

Comments Due Date

(a) The Federal Aviation Administration must receive comments on this AD action by October 26, 2005.

Affected ADs

(b) None.

Applicability

(c) This AD applies to Gulfstream Aerospace LP Model Gulfstream 100 airplanes; and Model Astra SPX, and 1125 Westwind Astra airplanes; certificated in any category; as identified in Gulfstream Alert Service Bulletin 100-32A-275, and Gulfstream Service Bulletin 1125-11-181, both Revision 1, both dated December 24, 2003.

Unsafe Condition

(d) This AD was prompted by reports of failure of the steering brackets of the nose wheel steering assembly of the landing gear, and in one incident, loss of steering control. We are issuing this AD to find and fix discrepancies of the nose wheel steering assembly which could result in loss of steering control and consequent reduced controllability of the airplane.

Compliance

(e) You are responsible for having the actions required by this AD performed within the compliance times specified, unless the actions have already been done.

One-Time Inspection/Corrective Action

(f) Within 50 flight hours or 25 landings after the effective date of this AD, whichever is first: Perform a one-time non-destructive test inspection for discrepancies of the nose wheel steering assembly, install a warning placard on each nose landing gear door, and do any applicable corrective action, by accomplishing all the actions specified in the Accomplishment Instructions of Gulfstream Alert Service Bulletin 100-32A-275, and Gulfstream Service Bulletin 1125-11-181, both Revision 1, both dated December 24, 2003. Any applicable corrective action must be accomplished before further flight in accordance with Alert Service Bulletin 100-32A-275. Although the service bulletins specify to submit certain information to the manufacturer, this AD does not include that requirement.

Alternative Methods of Compliance (AMOCs)

(g) The Manager, International Branch, Transport Airplane Directorate, FAA, has the authority to approve AMOCs for this AD, if requested in accordance with the procedures found in 14 CFR 39.19.

Related Information

(h) Israeli airworthiness directives 32-03-10-05 R1, effective February 8, 2004, and 32-03-12-09, effective February 5, 2004, also address the subject of this AD.

Issued in Renton, Washington, on September 16, 2005.
Ali Bahrami,
Manager, Transport Airplane Directorate, Aircraft Certification Service.

[FR Doc. 05-19141 Filed 9-23-05; 8:45 am]

BILLING CODE 4910-13-P